DEPARTMENT OF VETERANS AFFAIRS

Advisory Committee on Former Prisoners of War, Notice of Meeting

The Department of Veterans Affairs (VA) gives notice under the Federal Advisory Committee Act that the Advisory Committee on Former Prisoners of War (FPOW) will meet September 13-15, 2017, from 9:00 a.m.-4:30 p.m. CST at the Westin Peachtree Plaza Hotel, 210 Peachtree Street NW., Atlanta, GA 30303. The meeting is open to the public.

The purpose of the Committee is to advise the Secretary of Veterans Affairs on the administration of benefits under Title 38 U.S.C., for Veterans who are FPOWs, and to make recommendations on the needs of such Veterans for compensation, health care, and rehabilitation.

On Wednesday, September 13, the Committee will convene an open session to recognize and hear briefings from the Veterans Health Administration (VHA) officials and external stakeholders.

On Thursday, September 14, the Committee will assemble an open session for discussion and hear briefings from the Veterans Benefits Administration (VBA) and Veterans Health Administration (VHA) officials and external stakeholders.

On Friday, September 15, the Committee will participate in a National POW/MIA Recognition Day Ceremony at the Atlanta VA Medical Center located at 1700 Clairmont Road, Decatur, GA 30033. At 12:00 p.m., the committee meeting will be formally adjourned.

FPOWs who wish to speak at the public forum are invited to submit a 1-2 page commentary for inclusion in official meeting records. Any member of the public may also submit a 1-2 page commentary for the Committee's review.

Any member of the public wishing to attend the meeting or seeking additional information should contact Ms. Leslie N. Williams, Designated Federal Officer, Advisory Committee on Former Prisoners of War at Leslie.Williams1@va.gov or via phone at (202) 530-9219.

Dated: August 21, 2017.
Jelessa M. Burney,
Federal Advisory Committee Management Officer.

[FR Doc. 2017-17925 Filed 8-23-17; 8:45 am]

BILLING CODE 8320-01-P